DEPARTMENT OF HOMELAND SECURITY

Federal Emergency Management Agency

[Docket ID FEMA-2007-0008]

National Advisory Council; Meeting

AGENCY: Federal Emergency Management Agency, DHS.

ACTION: Committee management; Notice of open Federal Advisory Committee meeting.

SUMMARY: The Federal Emergency Management Agency's National Advisory Council (NAC) will meet virtually July 29-30, 2020. The meeting will be open to the public through virtual means.

DATES: The NAC will meet from 2 p.m. to 4 p.m. Eastern Standard Time (EST) on both Wednesday, July 29, and Thursday, July 30, 2020. Please note that the meeting may close early if the NAC has completed its business.

ADDRESSES: The meeting will be held virtually. Anyone who wishes to participate must register with FEMA prior to the meeting by providing their name, telephone number, email address, title, and organization to the person listed in the FOR FURTHER INFORMATION caption below, by Friday, July 24, 2020.

To facilitate public participation, members of the public are invited to provide written comments on the issues to be considered by the NAC. The topic areas are indicated in SUPPLEMENTARY INFORMATION caption below. The full agenda and any related documents for this meeting will be available by Friday, July 24, 2020, by contacting the person listed in the FOR FURTHER INFORMATION CONTACT caption below. Written comments must be submitted and received by 5 p.m. EST on Friday, July 24, 2020, identified by Docket ID FEMA-2007-0008, and submitted by one of the following methods:

• Federal eRulemaking Portal: http://www.regulations.gov. Follow the instructions for submitting comments.

• Fax: (540) 504-2331. Please include a cover sheet addressing the fax to ATTN: Jasper Cooke.

Instructions: All submissions must include the words “Federal Emergency Management Agency” and the docket number for this action. Comments received, including any personal information provided, will be posted without alteration at http://www.regulations.gov.

Docket: For access to the docket to read comments received by the NAC, go to http://www.regulations.gov, and search for Docket ID FEMA-2007-0008.

A public comment period will be held on Thursday, July 30, 2020, from 2 to 2:15 p.m. EST. All speakers must limit their comments to three minutes. Comments should be addressed to the NAC. Any comments not related to the agenda topics will not be considered by the NAC. To register to make remarks during the public comment period, contact the person listed in the FOR FURTHER INFORMATION CONTACT caption below by Friday, July 24, 2020. Please note that the public comment period may end before the time indicated, following the last call for comments.

FOR FURTHER INFORMATION CONTACT: Jasper Cooke, Designated Federal Officer, Office of the National Advisory Council, Federal Emergency Management Agency, 500 C Street SW, Washington, DC 20472-3184, telephone (202) 646-2700, fax (540) 504-2331, and email FEMA-NAC@fema.dhs.gov. The NAC website is http://www.fema.gov/national-advisory-council.

SUPPLEMENTARY INFORMATION: Notice of this meeting is given under the Federal Advisory Committee Act, 5 U.S.C. Appendix.

The NAC advises the FEMA Administrator on all aspects of emergency management. The NAC incorporates input from State, local, Tribal, and territorial governments, and the private sector in the development and revision of FEMA plans and strategies. The NAC includes a cross-section of officials, emergency managers, and emergency response providers from State, local, Tribal, and territorial governments, the private sector, and nongovernmental organizations.

Agenda: On Wednesday, July 29, 2020, the NAC will discuss potential recommendations and receive feedback from leadership on initial work products, as well as hear about strategic priorities from the FEMA leadership.

On Thursday, July 30, 2020, the NAC will engage with industry experts to receive feedback on initial work products and engage in discussions about recommendations for direction leading up to the next NAC meeting.

The full agenda and any related documents for this meeting will be available by Friday, July 24, 2020, by contacting the person listed in the FOR FURTHER INFORMATION CONTACT caption above.

Pete Gaynor,
Administrator, Federal Emergency Management Agency.

[FR Doc. 2020-14900 Filed 7-9-20; 8:45 am]

BILLING CODE 9111-48-P